DEPARTMENT OF TRANSPORTATION

Federal Aviation Administration

14 CFR Part 39

[Docket No. FAA-2017-1011; Product Identifier 2017-SW-004-AD; Amendment 39-19232; AD 2018-07-01]

RIN 2120-AA64

Airworthiness Directives; Airbus Helicopters Deutschland GmbH (Type Certificate Previously Held by Eurocopter Deutschland GmbH)

AGENCY: Federal Aviation Administration (FAA), DOT.

ACTION: Final rule.

SUMMARY: We are superseding Airworthiness Directive (AD) 2013-16-14 for Eurocopter Deutschland GmbH (now Airbus Helicopters Deutschland GmbH) Model EC 135 P1, P2, P2+, T1, T2, and T2+ helicopters. AD 2013-16-14 required installing a washer in and modifying the main transmission filter housing upper part. Since we issued AD 2013-16-14, Airbus Helicopters Deutschland GmbH has extended the overhaul interval for the main transmission and determined that other models may have the same unsafe condition. This AD retains the requirements of AD 2013-16-14, adds models to the applicability, and revises the required compliance time for the modification. The actions of this AD are intended to correct an unsafe condition on these products.

DATES: This AD is effective May 3, 2018.

The Director of the Federal Register approved the incorporation by reference of a certain publication listed in this AD as of May 3, 2018.

The Director of the Federal Register approved the incorporation by reference of a certain other publication listed in this AD as of October 9, 2013 (78 FR 54383, September 4, 2013).

ADDRESSES: For service information identified in this final rule, contact Airbus Helicopters, 2701 N. Forum Drive, Grand Prairie, TX 75052; telephone (972) 641-0000 or (800) 232-0323; fax (972) 641-3775; or at http://www.airbushelicopters.com/website/technical-expert/. You may view this referenced service information at the FAA, Office of the Regional Counsel, Southwest Region, 10101 Hillwood Pkwy, Room 6N-321, Fort Worth, TX 76177. It is also available on the internet at http://www.regulations.gov by searching for and locating Docket No. FAA-2017-1011.

Examining the AD Docket

You may examine the AD docket on the internet at http://www.regulations.gov in Docket No. FAA-2017-1011; or in person at Docket Operations between 9 a.m. and 5 p.m., Monday through Friday, except Federal holidays. The AD docket contains this AD, the European Aviation Safety Agency (EASA) AD, any incorporated-by-reference information, the economic evaluation, any comments received, and other information. The address for Docket Operations (phone: 800-647-5527) is Docket Operations, U.S. Department of Transportation, Docket Operations, M-30, West Building Ground Floor, Room W12-140, 1200 New Jersey Avenue SE, Washington, DC 20590.

FOR FURTHER INFORMATION CONTACT: Rao Edupuganti, Aviation Safety Engineer, Regulations and Policy Section, Rotorcraft Standards Branch, FAA, 10101 Hillwood Pkwy, Fort Worth, TX 76177; telephone (817) 222-5110; email rao.edupuganti@faa.gov.

SUPPLEMENTARY INFORMATION:

Discussion

We issued a notice of proposed rulemaking (NPRM) to amend 14 CFR part 39 to remove AD 2013-16-14, Amendment 39-17552 (78 FR 54383, September 4, 2013), and add a new AD. AD 2013-16-14 applied to Eurocopter Deutschland GmbH (now Airbus Helicopters Deutschland GmbH) Model EC135 P1, P2, P2+, T1, T2, and T2+ helicopters with a certain serial-numbered main transmission FS108 housing upper part (upper part), part number (P/N) 4649 301 034. AD 2013-16-14 required installing a corrugated washer in the upper part filter housing and modifying each affected upper part by machining the oil filter bypass inlet.

The NPRM published in the Federal Register on November 3, 2017 (82 FR 51175). The NPRM was prompted by AD No. 2017-0002, dated January 9, 2017 (AD 2017-0002), issued by EASA, which is the Technical Agent for the Member States of the European Union, to correct an unsafe condition for Eurocopter Deutschland GmbH Model EC 135 and EC635 helicopters. EASA advises that some affected upper parts have been re-identified with P/N 4649 301 067 or P/N 4649 301 088 without changing the serial number. EASA further advises that Airbus Helicopters has extended the compliance time to retrofit the housing to 5,150 hours to coincide with the extended interval between transmission overhauls.

Accordingly, the NPRM proposed to retain the requirement to install a corrugated washer and modify the upper part and also proposed adding Airbus Helicopters Deutschland Model EC135P3 and Model EC135T3 helicopters and upper part P/N 4649 301 067 and P/N 4649 301 088 to the applicability and extending the compliance time for machining the upper part to 5,150 hours TIS.

Comments

We gave the public the opportunity to participate in developing this AD, but we did not receive any comments on the NPRM.

FAA's Determination

We have reviewed the relevant information and determined that an unsafe condition exists and is likely to exist or develop on other helicopters of these same type designs and that air safety and the public interest require adopting the AD requirements as proposed.

Related Service Information Under 1 CFR Part 51

We reviewed Airbus Helicopters Alert Service Bulletin (ASB) EC135-63A-017, Revision 2, dated December 5, 2016 (ASB EC135-63A-017), for Model EC135 T1, T2, T2+, T3, P1, P2, P2+, P3, and 635 T1, T2+, T3, P2+, and P3 helicopters. This service information specifies removing the oil filter element and installing a corrugated washer. ASB EC135-63A-017 also specifies reworking the affected upper part at the next repair or overhaul of the main transmission, no later than 5,150 flight hours after receipt of the service bulletin. EASA classified this ASB as mandatory and issued AD 2017-0002 to ensure the continued airworthiness of these helicopters.

We also reviewed ZF Luftfahrttechnik GmbH Service Instruction No. EC135FS108-1659-1009, dated September 14, 2010, which specifies procedures for repairing the main transmission upper housing, and includes dimensions and tolerances for machining the upper part.

This service information is reasonably available because the interested parties have access to it through their normal course of business or by the means identified in the ADDRESSES section.

Other Related Service Information

We reviewed Eurocopter Alert Service Bulletin EC135-63A-017, Revision 0, dated October 11, 2010, for Model EC135 T1, T2, T2+, P1, P2, P2+, and 635 T1, T2+, and P2+ helicopters. This service information specifies the same Accomplishment Instructions as ASB EC135-63A-017, Revision 2, except with a shorter compliance time to rework the affected upper part.

Costs of Compliance

We estimate that this AD will affect 236 helicopters of U.S. Registry. At an average labor rate of $85 per work hour, we estimate that operators will incur the following costs in order to comply with this AD. Installing the corrugated washer requires about .5 work hour, and required parts cost about $10, for a cost per helicopter of about $53, and a cost to the U.S. operator fleet of $12,508. Machining the housing upper part requires about 5 work hours and required parts cost about $73, for a cost per helicopter of $498, and a total cost to U.S. operators of $117,528. Based on these figures, we estimate the total cost of this AD to be $130,036 for the U.S. operator fleet or $551 per helicopter.

According to Airbus Helicopters' service information some of the costs of this AD may be covered under warranty, thereby reducing the cost impact on affected persons. We do not control warranty coverage by Airbus Helicopters. Accordingly, we have included all costs in our cost estimate.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska to the extent that a regulatory distinction is required, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2013-16-14, Amendment 39-17552 (78 FR 54383, September 4, 2013), and adding the following new AD:

2018-07-01 Airbus Helicopters Deutschland GmbH (Type Certificate Previously Held By Eurocopter Deutschland GmbH): Amendment 39-19232; Docket No. FAA-2017-1011; Product Identifier 2017-SW-004-AD.

(a) Applicability

This AD applies to Model EC135 P1, P2, P2+, P3, T1, T2, T2+, and T3 helicopters with a main transmission FS108 housing upper part, part number (P/N) 4649 301 034, 4649 301 067, or 4649 301 088 and a serial number listed in Table 1 of Airbus Helicopters Alert Service Bulletin EC135-63A-017, Revision 2, dated December 5, 2016 (ASB EC135-63A-017), certificated in any category.

(b) Unsafe Condition

This AD defines the unsafe condition as an improperly manufactured bypass inlet in the oil filter area. This condition could adversely affect the oil-filter bypass function, resulting in failure of the main transmission and subsequent loss of control of the helicopter.

(c) Affected ADs

This AD replaces AD 2013-16-14, Amendment 39-17552 (78 FR 54383, September 4, 2013).

(d) Effective Date

This AD becomes effective May 3, 2018.

(e) Compliance

You are responsible for performing each action required by this AD within the specified compliance time unless it has already been accomplished prior to that time.

(f) Required Actions

(1) Within 3 months, remove the oil filter element and install a corrugated washer, P/N 0630100377, in the middle of the filter housing of the housing upper part as depicted in Figure 2 of ASB EC135-63A-017.

(2) Within 5,150 hours time-in-service or at the next main transmission repair or overhaul, whichever occurs first, machine the main transmission housing upper part in accordance with Annex A of ZF Luftfahrttechnik GmbH Service Instruction No. EC135FS108-1659-1009, dated September 14, 2010.

(3) Do not install a main transmission upper part, P/N 4649 301 034, 4649 301 067, or 4649 301 088, on any helicopter unless it has been modified as required by paragraphs (f)(1) through (f)(2) of this AD.

(g) Credit for Previous Actions

Actions accomplished before the effective date of this AD in accordance with the procedures specified in Eurocopter Alert Service Bulletin EC135-63A-017, Revision 0, dated October 11, 2010, are considered acceptable for compliance with the corresponding actions specified in paragraph (f) of this AD.

(h) Alternative Methods of Compliance (AMOCs)

(1) The Manager, Safety Management Section, Rotorcraft Standards Branch, FAA, may approve AMOCs for this AD. Send your proposal to: Rao Edupuganti, Aviation Safety Engineer, Regulations and Policy Section, Rotorcraft Standards Branch, FAA, 10101 Hillwood Pkwy, Fort Worth, TX 76177; telephone (817) 222-5110; email 9-ASW-FTW-AMOC-Requests@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(i) Additional Information

(1) Eurocopter Alert Service Bulletin EC135-63A-017, Revision 0, dated October 11, 2010, which is not incorporated by reference, contains additional information about the subject of this AD. For service information identified in this AD, contact Airbus Helicopters, 2701 N. Forum Drive, Grand Prairie, TX 75052; telephone (972) 641-0000 or (800) 232-0323; fax (972) 641-3775; or at http://www.airbushelicopters.com/website/technical-expert/. You may review a copy of the service information at the FAA, Office of the Regional Counsel, Southwest Region, 10101 Hillwood Pkwy, Room 6N-321, Fort Worth, TX 76177.

(2) The subject of this AD is addressed in European Aviation Safety Agency (EASA) AD No. 2017-0002, dated January 9, 2017. You may view the EASA AD on the internet at http://www.regulations.gov in the AD Docket.

(j) Subject

Joint Aircraft Service Component (JASC) Code: 6320 Main Rotor Gearbox.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on May 3, 2018.

(i) Airbus Helicopters Alert Service Bulletin EC135-63A-017, Revision 2, dated December 5, 2016.

(ii) Reserved.

(4) The following service information was approved for IBR on October 9, 2013 (78 FR 54383, September 4, 2013).

(i) ZF Luftfahrttechnik GmbH Service Instruction No. EC135FS108-1659-1009, dated September 14, 2010.

(ii) Reserved.

(5) For service information identified in this AD, contact Airbus Helicopters, 2701 N. Forum Drive, Grand Prairie, TX 75052; telephone (972) 641-0000 or (800) 232-0323; fax (972) 641-3775; or at http://www.airbushelicopters.com/website/technical-expert/.

(6) You may view this service information at FAA, Office of the Regional Counsel, Southwest Region, 10101 Hillwood Pkwy, Room 6N-321, Fort Worth, TX 76177. For information on the availability of this material at the FAA, call (817) 222-5110.

(7) You may view this service information that is incorporated by reference at the National Archives and Records Administration (NARA). For information on the availability of this material at NARA, call (202) 741-6030, or go to: http://www.archives.gov/federal-register/cfr/ibr-locations.html.

Issued in Fort Worth, Texas, on March 19, 2018.
Scott A. Horn,
Deputy Director for Regulatory Operations, Compliance & Airworthiness Division, Aircraft Certification Service.

[FR Doc. 2018-06095 Filed 3-28-18; 8:45 am]

BILLING CODE 4910-13-P